DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Global Diversity Export Initiative (GDEI) Trade Mission to the Caribbean Region, November 17-22, 2024. A summary of the mission is found below. Application information and more detailed mission information, including the commercial setting and sector information, can be found at the trade mission website: https://www.trade.gov/trade-missions. For this mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Trade Events Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content by value.

A trade association/organization applicant must certify to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination markets. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company size and location may also be considered during the review process.

Referrals from a political party or partisan political group or any information, including on the application, containing references to political contributions or other partisan political activities will be excluded from the application and will not be considered during the selection process. The applicant will be notified of these exclusions.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Global Diversity Export Initiative (GDEI) Trade Mission to the Caribbean Region—November 17-22, 2024

Summary

The United States Department of Commerce, International Trade Administration (ITA), is organizing a Global Diversity Export Initiative (GDEI) Trade Mission to the Caribbean region on November 17-22, 2024, that will include the “Opportunities for Minority-Led Businesses in the Caribbean Region Conference” in Santo Domingo, Dominican Republic on November 17-18, 2024.

Recruitment and consideration will be extended to all export-ready U.S. companies, including small businesses, trade associations, and other exporting organizations that meet the established criteria for participation in the mission. ITA is seeking to improve outreach and representation of businesses with owners and/or leaders from underserved communities, including through the GDEI. This mission is focused on expanding export opportunities to U.S. small and medium-sized businesses with owners and/or leaders from underserved communities from industries with growing potential in the Caribbean region. The mission is horizontal, with various sectors represented, based on best prospects for U.S. companies, such as automotive parts and services, consumer goods, construction equipment/road building machinery/building products/infrastructure projects, medical equipment and pharmaceuticals, ICT, energy equipment and services, safety and security equipment, hotel and restaurant equipment, franchising, manufacturing equipment, yachting/maritime services/sailing equipment, marine ports, aviation/airports, tourism and related construction, waste management, and water treatment and supply.

This mission will also support the Department's GDEI, providing export promotion resources to businesses from underserved communities. U.S. small and medium-sized businesses with owners and/or leaders from underserved communities face unique obstacles in accessing overseas markets, including difficulty obtaining financing and lack knowledge about export opportunities. This mission will assist U.S. small and medium-sized businesses with owners and/or leaders from underserved communities to find partners and begin or expand their exports in seven markets. With almost 272,000 U.S. small and medium-sized businesses exporting, the limited number of companies from underserved communities participating in international trade is in stark contrast with the total universe of exporters. According to the most recent Census data (2021), from a sample of approximately 146,000 firms that export, 15% are women-owned; 6% are Hispanic-owned; 6% are veteran-owned; and 1% are Black or African American-owned firms. Additionally, based on the 2020-2021 Census Bureau Profile of U.S. Importing and Exporting Companies and the 2022 Annual Business Survey, Caribbean countries were not in the top 15 markets ranked for women-owned small and medium-sized businesses and veteran-owned small and medium-sized businesses, while the Dominican Republic ranked as the 4th top export market for Hispanic American and Native American-owned small and medium-sized businesses and Jamaica ranked as the 8th top export market for Black or African American-owned small and medium sized businesses, indicating room for export growth to the Caribbean region among . Through these events, the Department of Commerce seeks to continue to scale the next generation of innovation, maintain global competitiveness, and ensure that more diverse businesses benefit from harnessing the potential of exports.

Trade mission participants will arrive in Santo Domingo, Dominican Republic on November 17 to attend the opening reception for the “Opportunities for Minority-Led Businesses in the Caribbean Region Conference”, which is also open to U.S. companies not participating in the trade mission. The Business Conference will focus on regional and industry-specific sessions and will gather experts on market entry strategies, logistics, procurement, trade financing, access to capital, and other important topics to assist minorities business exporters. The registration fee for the business conference is included in the trade mission costs.

On Sunday November 17, trade mission participants will participate in a networking lunch with a trade mission markets briefing, one-on-one meetings (U.S. diplomats and/or industry specialists from nine U.S. Embassies across the Caribbean region will be available), and a networking reception. On Monday November 18, participants will engage in the business conference that will include a morning plenary session, a networking lunch, afternoon workshops and one-one-one meetings with key service providers and U.S. diplomats and/or industry specialists, information and material on trade-related resources, and an evening networking reception. On Tuesday November 19, selected participants will either engage in business-to-business (B2B) meetings in Santo Domingo if approved for the Dominican Republic Trade Mission stop, or travel to other markets in the region to engage in B2B appointments in those markets. B2B meetings will be conducted with pre-screened potential buyers, agents, distributors or joint-venture partners, in the selected city/market in the Dominican Republic, and/or Barbados/Eastern Caribbean, and/or Guyana, and/or Jamaica, and/or Suriname, and/or The Bahamas and/or Trinidad and Tobago.

The combination of the Opportunities for Minority-Led Businesses in the Caribbean Region Conference and B2B matchmaking opportunities in seven markets will provide participants with substantive information on strategies for entering or expanding their business in the Caribbean region, key contacts with Commercial Service and State Department officers and local staff, and networking opportunities to build vital business relationships.

This mission is in alignment with Executive Order 13985 on Advancing Racial Equity and Support for Underserved Communities Through the Federal Government (January 25, 2021) (E.O. 13985), Executive Order 14091 on Further Advancing Racial Equity and Support for Underserved Communities Through the Federal Government (February 22, 2022) (E.O. 14091), and the Global Diversity Export Initiative of the U.S. Commercial Service. For the purposes of the trade mission, ITA adopts the definition of “underserved communities” ITA adopts the definition of “underserved communities” in E.O. 13985: “populations sharing a particular characteristic, as well as geographic communities, that have been systematically denied a full opportunity to participate in aspects of economic, social, and civic life, as exemplified by the list in the preceding definition of `equity.' ” “Equity” is defined by E.O. 13985 as “the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.” This trade mission is also designed to be responsive to the priorities stated by Secretary of Commerce Gina Raimondo and outlined in the Equity Action Plan released in April 2022 which aspires to “harness the talents and strengths of all parts of the country, including women, people of color, and others who are too often left behind” including by “[s]trengthen[ing] small businesses in underserved communities by helping them be successful exporters”.

Website: Please visit our official mission website for more information: https://events.trade.gov/TradeGov/GDEITradeMissionCaribbeanRegion.

Proposed Timetable

This timetable allows for clients to take part in business matchmaking across the Caribbean region marketplace by offering scheduled business-to-business meetings in the Dominican Republic, and/or Barbados/Eastern Caribbean, and/or Guyana, and/or Jamaica, and/or Suriname, and/or The Bahamas and/or Trinidad and Tobago. This structure ensures that each post has set days for meetings that allow the clients to explore at least two of their best prospects for business. The final schedule will depend on the availability of host government and business officials, specific goals of mission participants, and ground transportation.

November 16, 2024 | Travel Day/Arrival in Santo Domingo, Dominican Republic.
November 17, 2024 | Dominican Republic. Business Conference. Afternoon: Registration, U.S. Embassy Officer Meetings and Market Briefings. Evening: Networking Reception.
November 18, 2024 | Dominican Republic. Business Conference. Morning: Registration. Plenary Session. Afternoon: U.S. Embassy Officer Meetings and Workshops. Evening: Networking Reception.
B2BMeeting Options:
November 19-22, 2024 | Travel to Business-to-Business Meetings in (up to two markets): Option (A) Dominican Republic. Option (B) Barbados/Eastern Caribbean. Option (C) Guyana. Option (D) Jamaica. Option (E) Suriname. Option (F) The Bahamas. Option (G) Trinidad and Tobago.

Participation Requirements

All parties interested in participating in the U.S. Department of Commerce GDEI Trade Mission to the Caribbean region must complete and submit an application package for consideration by the U.S. Department of Commerce. All applicants will be evaluated on their ability to meet certain conditions and best satisfy the selection criteria as outlined below.

A minimum of 20 and a maximum of 30 firms and/or trade associations will be selected to participate in the mission on a first come, first served basis. During the registration process, applicants will be able to select the countries for which they would like to receive a brief market assessment. Upon receipt of market assessment reports, they will be able to select up to two stops for B2B meetings.

All selected Trade Mission participants will attend the business conference in Santo Domingo and will have the opportunity for B2B meetings in up to two countries from the Dominican Republic, Barbados/Eastern Caribbean, Guyana, Jamaica, Suriname, The Bahamas, and Trinidad and Tobago.

The number of firms that may be selected for B2B meetings in each country is as follows: 15 for the Dominican Republic, 5 for Barbados/Eastern Caribbean, 5 for Guyana, 5 for Jamaica, 5 for Suriname, 3 for The Bahamas, and 5 for Trinidad and Tobago.

The trade mission is open to U.S. firms already doing business in The Caribbean region who are seeking to expand their market share and to those U.S. firms new to these markets.

Fees and Expenses

After a firm or trade association is selected to participate on the mission, a payment to the Department of Commerce in the form of a participation fee is required. Up to two cities can be selected for business-to-business meetings.

The fees are as follow:

If only one stop is selected for business-to-business meetings, the participation fee will be $2,500 for a small or medium-sized enterprises (SME) [1] and $4,000 for large firms.

If two stops are selected for business-to-business meetings, the participation fee will be $3,500 for a small or medium-sized enterprises (SME) [1] and $5,000 for large firms.

The mission participation fees above include the Opportunities for Minority-Led Businesses in the Caribbean Region Conference registration fee of $500 for one participant per firm.

If and when an applicant is selected to participate in a particular mission, a payment to the Department of Commerce in the amount of the designated participation fee above is required. Upon notification of acceptance, those selected have five business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event the mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the U.S. Department of Commerce will provide instructions to each participant on the procedures required to obtain business visas.

Trade mission members participate in trade missions and undertake mission-related travel at their own risk. The nature of the security situation in any given foreign market at a given time cannot be guaranteed. The U.S. Government does not make any representations or guarantees as to the safety or security of participants. The U.S. Department of State issues U.S. Government international travel alerts and warnings for U.S. citizens available at https://travel.state.gov/content/passports/en/alertswarnings.html.

Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees, accordingly, prepare an agenda for virtual activities, and notify the previous selected applicants with the option to opt-in to the new virtual program.

Timeframe for Recruitment and Applications

Mission recruitment will be conducted in an open and public manner, including publication in the Federal Register, posting on the Commerce Department trade mission calendar on www.trade.gov, the Trade Americas web page at https://www.trade.gov/trade-americas-events, and other internet websites, press releases to the general and trade media, direct mail and broadcast fax, notices by industry trade associations and other multiplier groups and announcements at industry meetings, symposia, conferences, and trade shows. The Commerce Department may also work with the U.S. Small Business Administration and the Organization of Minorities in International Trade to promote the mission.

Recruitment for the mission will begin immediately and conclude no later than Friday, September 27, 2024. The U.S. Department of Commerce will review applications and make selection decisions on a rolling basis until the minimum or 20 or maximum of 30 participants are selected. After Friday, September 27, 2024, companies will be considered only if space and scheduling constraints permit.

Contacts

U.S. Trade Americas Team Contact Information

Diego Gattesco, Director/Trade Americas Team Leader—U.S. Commercial Service Wheeling, WV; Diego.Gattesco@trade.gov; Tel: 304-243-5493

CS Dominican Republic Contact Information

Jennifer Kane, Senior Commercial Officer—U.S. Embassy Santo Domingo, Dominican Republic, Jennifer.Kane@trade.gov.

Gemal Brangman,
Director, ITA Events Management Task Force.

[FR Doc. 2024-14648 Filed 7-2-24; 8:45 am]

BILLING CODE 3510-DR-P